DEPARTMENT OF THE INTERIOR

Bureau of Indian Affairs

Extending Scoping Period To Prepare a Programmatic Environmental Impact Statement (EIS) for the Navajo Nation Integrated Weed Management Plan Within Coconino, Navajo, and Apache Counties, AZ; McKinley, San Juan, McGill, and Cibola, Counties, NM; and San Juan County, UT

AGENCY: Bureau of Indian Affairs, Interior.

ACTION: Notice.

SUMMARY: The Bureau of Indian Affairs (BIA) is extending the public scoping period to prepare an EIS for the Navajo Nation Integrated Weed Management Plan on the Navajo Indian Reservation.

DATES: Scoping comments are due on March 20, 2013.

FOR FURTHER INFORMATION CONTACT: Renee Benally at (928) 283-2210; email: renee.benally@bia.gov.

SUPPLEMENTARY INFORMATION: The BIA published a Notice of Intent in the Federal Register on January 14, 2013, (78 FR 2685) and ended the scoping comment period on February 28, 2013. The BIA is extending the comment period to March 20, 2013. Please refer to the January 14, 2013, (78 FR 2685) Notice of Intent for project details and commenting instructions.

Dated: February 28, 2013.
Kevin K. Washburn,
Assistant Secretary—Indian Affairs.

[FR Doc. 2013-05398 Filed 3-7-13; 8:45 am]

BILLING CODE 4310-W7-P